DEPARTMENT OF TRANSPORTATION

Surface Transportation Board

[Docket No. AB-1075X]

Manufacturers Railway Company—Discontinuance Exemption—in St. Louis County, MO

On March 24, 2011, Manufacturers Railway Company (MRS) ¹ filed with the Surface Transportation Board a petition under 49 U.S.C. 10502 for exemption from the prior approval requirements of 49 U.S.C. 10903 to discontinue service over all tracks and yards located within the area bordered by Cedar Street on the north to Zepp Street on the south; and Mississippi River flood wall on the east to U.S. Interstate 55 on the west, in St. Louis, Mo. The lines traverse U.S. Postal Service Zip Code 63118. MRS intends to discontinue service over its lines but does not intend, at this point, to remove the trackage or rail assets comprising the lines.

¹ MRS is owned by Anheuser-Busch Companies, Inc.

According to MRS, the lines do not contain any Federally granted rights-of-way. Any documentation in MRS's possession will be made available promptly to those requesting it.

MRS asserts that, because its petition seeks discontinuance covering MRS's entire rail system and because MRS has no corporate affiliate that will continue substantially similar rail operations or a corporate parent that will realize substantial financial benefits over and above relief from the burden of deficit operations by its subsidiary railroad, labor protective conditions should not be imposed. MRS requests that the Board follow its established practice regarding labor conditions in entire system discontinuances. The United Transportation Union, the Brotherhood of Maintenance of Way Employes Division-International Brotherhood of Teamsters, and the International Association of Machinists and Aerospace Workers have filed separate statements or comments in opposition to the petition, asserting that affected employees are entitled to labor protection. The Board will consider and address comments on the petition, including comments regarding labor protection, in its final decision on the merits.

By issuance of this notice, the Board is instituting an exemption proceeding pursuant to 49 U.S.C. 10502(b). A final decision will be issued by July 12, 2011.

Because this is a discontinuance proceeding and not an abandonment, OFAs to purchase the line for continued rail service are not appropriate. Any offer of financial assistance (OFA) under 49 CFR 1152.27(b)(2) to subsidize continued rail service will be due no later than 10 days after service of a decision granting the petition for exemption. Each offer must be accompanied by a $1,500 filing fee. See 49 CFR 1002.2(f)(25).

Because this is a discontinuance proceeding and not an abandonment, a trail use/rail banking condition, under 16 U.S.C. 1247(d), and a public use condition, under 49 U.S.C. 10905, are not appropriate. Additionally, no environmental or historic documentation is required under 49 CFR 1105.6(c)(2) and 1105.8.

All filings in response to this notice must refer to Docket No. AB-1075X, and must be sent to: (1) Surface Transportation Board, 395 E Street, SW., Washington, DC 20423-0001; and (2) Paul A. Cunningham, Harkins Cunningham LLP, 1700 K Street, NW., Suite 400, Washington, DC 20006-3804. Replies to the petition are due on or before May 3, 2011.

Persons seeking further information concerning discontinuance procedures may contact the Board's Office of Public Assistance, Governmental Affairs, and Compliance at (202) 245-0230 or refer to the full abandonment and discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at http://www.stb.dot.gov.

Decided: April 8, 2011.
By the Board, Rachel D. Campbell, Director, Office of Proceedings.
Andrea Pope-Matheson,
Clearance Clerk.

[FR Doc. 2011-8863 Filed 4-12-11; 8:45 am]

BILLING CODE 4915-01-P